DEPARTMENT OF HEALTH AND HUMAN SERVICES

Health Resources and Services Administration

Agency Information Collection Activities: Submission to OMB for Review and Approval; Public Comment Request; National Hospital Organ Donation Campaign's Activity Scorecard

AGENCY: Health Resources and Services Administration (HRSA), Department of Health and Human Services.

ACTION: Notice.

SUMMARY: In compliance with the requirement for opportunity for public comment on proposed data collection projects of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than February 16, 2017.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: National Hospital Organ Donation Campaign's Activity Scorecard OMB No. 0915-0373—Revision.

Abstract: HRSA's Healthcare Systems Bureau, Division of Transplantation, administers the Workplace Partnership for Life (WPFL) program under the authority of Section 377A(a) of the Public Health Service (PHS) Act, (42 U.S.C. 274f-1). The WPFL seeks to involve workplaces and other organizations in a national effort to increase the number of registered organ, eye, and tissue donors and to increase awareness about organ donation. In 2011, HRSA launched the National Hospital Organ Donation Campaign (Hospital Campaign) and issued a challenge to hospitals nationwide to assist in this effort by conducting donor education and donor registry enrollment events in their hospitals and communities. The nation's 58 organ procurement organizations (OPOs), which already work with hospitals on clinical aspects of transplantation, participate in the Hospital Campaign to provide assistance to hospitals in their service areas as they implement strategies and activities to increase the number of enrollments in state donor registries. HRSA supports the Hospital Campaign by providing communications materials, facilitating the sharing of best practices, leveraging the influence of national associations and organizations related to hospitals and organ donation as Campaign National Partners, and offering the additional incentive of national-level recognition to hospitals.

Need and Proposed Use of the Information: The Hospital Campaign's Activity Scorecard is a key component of this effort. It provides a menu of over 40 ideas for outreach activities. The Activity Scorecard also provides incentive for hospitals to participate by laying the foundation for recognition. Each activity on the programmable PDF is assigned a particular number of points based on the activity's potential for generating registrations. Recognition is awarded to hospitals that have annual points which qualify them for one of the following recognition levels: bronze, silver, gold, and platinum.

Hospitals can complete the Activity Scorecard and submit it annually via email or fax to HRSA or to their local OPO or Donate Life America (DLA) affiliate to be considered for recognition. This is a voluntary activity and hospitals may participate in the campaign without using or submitting a completed Activity Scorecard. However, most hospitals enrolled in the campaign (currently 2,038) have submitted a completed Activity Scorecard to become eligible for recognition.

Hospitals that achieve specific outlined levels are recognized annually in several ways: By receipt of a HRSA certificate of recognition presented to hospitals by their participating OPOs in various ceremonies; by HRSA's sharing of a consolidated list of recognized hospitals during the final webinar of the project year that occurs after scorecard submission; in the final e-newsletter of the project year; and in communications sent out by the campaign's 11 national partners, which include the American Hospital Association, the Association of Organ Procurement Organizations, and the American Society of Transplant Surgeons. Hospitals also frequently distribute their own media releases throughout their communities.

Revisions for this submission of the information collection request include two new opportunities for hospitals to earn points: a point is awarded for each donor registration a hospital motivates and points are awarded for reaching the hospital's donor registration goal. In addition, HRSA is making various formatting changes and the point values for two activities have been increased.

Likely Respondents: Hospital representatives, most often the organ donation champions identified by the OPOs, can download the form from organdonor.gov or receive it from their OPO or DLA affiliate.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and be able to respond to a collection of information; to search data sources; and to complete and review the collection of information; and to transmit or otherwise disclose the information. The total annual burden hours estimated for this ICR are summarized in the table below.

Total Estimated Annualized Burden Hours
Form name | Number of respondents | Number of responses per respondent | Total responses | Average burden per response (in hours) | Total burden hours
National Hospital Organ Donation Campaign's Activity Scorecard | 1,250 | 1 | 1,250 | 0.367 | 458.75

Jason E. Bennett,
Director, Division of the Executive Secretariat.

[FR Doc. 2017-00792 Filed 1-13-17; 8:45 am]

BILLING CODE 4165-15-P